DEPARTMENT OF STATE

[Public Notice 11875 ]

Notice of Determinations; 43 Additional Culturally Significant Objects Being Imported for Exhibition—Determinations: “Lives of the Gods: Divinity in Maya Art” Exhibition

SUMMARY: On July 27, 2021, notice was published on page 40225 of the Federal Register (volume 86, number 141) of determinations pertaining to certain objects to be included in an exhibition entitled “Lives of the Gods: Divinity in Maya Art.” Notice is hereby given of the following determinations: I hereby determine that 43 additional objects being imported from abroad pursuant to agreements with their foreign owners or custodians for temporary display in the aforesaid exhibition at The Metropolitan Museum of Art, New York, New York; the Kimbell Art Museum, Fort Worth, Texas; and at possible additional exhibitions or venues yet to be determined, are of cultural significance, and, further, that their temporary exhibition or display within the United States as aforementioned is in the national interest. I have ordered that Public Notice of these determinations be published in the Federal Register.

FOR FURTHER INFORMATION CONTACT: Elliot Chiu, Attorney-Adviser, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 523 of December 22, 2021.

Stacy E. White,
Deputy Assistant Secretary for Professional and Cultural Exchanges, Bureau of Educational and Cultural Affairs, Department of State.

[FR Doc. 2022-21241 Filed 9-29-22; 8:45 am]

BILLING CODE 4710-05-P